DEPARTMENT OF THE TREASURY

Submission for OMB Review; Comment Request

June 20, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 29, 2002 to be assured of consideration.

Financial Crimes Enforcement Network (FinCEN)

OMB Number: 1506-0018.

Form Number: FinCEN Form 8300 (IRS Form 8300).

Type of Review: Extension.

Title: Report of Cash Payments Over $10,000 Received in a Trade or Business.

Description: 31 U.S.C. and the implementing regulations (31 CFR 103.30) require non-financial trades or businesses to report certain currency transactions exceeding $10,000.

Respondents: Business or other for-profit, farms.

Estimated Number of Respondents/Recordkeepers: 46,800.

Estimated Burden Hours Per Respondent/Recordkeeper: 1 hour.

Frequency of Response: On occasion.

Estimated Total Reporting/Recordkeeping Burden: 1 hour.

Clearance Officer: Lois K. Holland, (202) 622-1563, Departmental Offices, Room 2110, 1425 New York Avenue, NW., Washington, DC 20220.

OMB Reviewer: Joseph F. Lackey, Jr., (202) 395-7316, Office of Management and Budget, Room 10235, New Executive Office Building,Washington, DC 20503.

Lois K. Holland,
Departmental Reports, Management Officer.

[FR Doc. 02-16317 Filed 6-27-02; 8:45 am]

BILLING CODE 4810-02-P